DEPARTMENT OF COMMERCE

International Trade Administration

[A-588-605)(A-580-507]

Continuation of Antidumping Duty Orders: Malleable Cast Iron Pipe Fittings From Japan and Korea

AGENCY: Import Administration, International Trade Administration, Department of Commerce.

ACTION: Notice of continuation of antidumping duty orders: malleable cast iron pipe fittings from Japan and Korea.

SUMMARY: On August 5, 1999, the Department of Commerce (“the Department”), pursuant to sections 751(c) and 752 of the Tariff Act of 1930, as amended (“the Act”), determined that revocation of the antidumping duty orders on malleable cast iron pipe fittings from Japan and Korea is likely to lead to continuation or recurrence of dumping (64 FR 42665 (August 5, 1999)). On February 16, 2000, the International Trade Commission (“the Commission”), pursuant to section 751(c) of the Act, determined that revocation of the antidumping duty orders on malleable cast iron pipe fittings from Japan and Korea would be likely to lead to continuation or recurrence of material injury to an industry in the United States within a reasonably foreseeable time (65 FR 7891). Therefore, in accordance with CFR 351.218(e)(4), the Department is publishing notice of the continuation of the antidumping duty orders on malleable cast iron pipe fittings from Japan and Korea.

FOR FURTHER INFORMATION CONTACT : Martha V. Douthit or Melissa G. Skinner, Office of Policy for Import Administration, International Trade Administration, U.S. Department of Commerce, 14th and Constitution Ave., NW., Washington, DC 20230; telephone: (202) 482-5050 or (202) 482-1560, respectively.

EFFECTIVE DATE: February 28, 2000.

Background

On January 4, 1999, the Department initiated and the Commission instituted sunset reviews (64 FR 364 and 64 FR 369, respectively) of the antidumping duty orders on malleable cast iron pipe fittings from Japan and Korea pursuant to section 751(c) of the Act. As a result of these reviews the Department found that revocation of the antidumping orders would likely lead to continuation or recurrence of dumping, and notified the Commission of the magnitude of the margin likely to prevail were the orders to be revoked (see Final Results of Expedited Sunset Reviews: Malleable Cast Iron Pipe Fittings from Japan and South Korea, 64 FR 42665 (August 5, 1999)).

On February 16, 2000, the Commission determined, pursuant to section 751(c) of the Act, that revocation of the antidumping duty orders on malleable cast iron pipe fittings from Japan and Korea would likely lead to the continuation or recurrence of material injury to an industry in the United States within a reasonably foreseeable time (see Malleable Cast Iron Pipe Fittings from Japan and South Korea, 65 FR 7891 (February 16, 2000) and USITC Publication 3274, Inv. Nos. 731-TA-374 (REVIEW), and 731-TA-279 (REVIEW) (February 2000).

Scope

Japan and Korea

Imports covered by these orders are shipments of certain malleable cast iron pipe fittings, other than grooved and alloy cast iron, from Japan and Korea. In the original orders, the merchandise was classified in the Tariff Schedules of the United States, Annotated, under item numbers 610.7000 and 610.7400. The merchandise is currently classified under item numbers 7307.19.90.30, 7307.19.90.60 and 7307.19.90.80 of the Harmonized Tariff Schedule.

Determination

As a result of the determinations by the Department and the Commission that revocation of these antidumping duty orders would be likely to lead to continuation or recurrence of dumping and material injury to an industry in the United States, pursuant to section 751(d)(2) of the Act, the Department hereby orders the continuation of the antidumping duty orders on malleable cast iron pipe fittings from Japan and Korea. The Department will instruct the U.S. Customs Service to continue to collect antidumping duty deposits at the rate in effect at the time of entry for all imports of subject merchandise. The effective date of continuation of these orders will be the date of publication in the Federal Register of this notice of continuation.

As a result, pursuant to sections 751(c)(2) and 751(c)(6)(A) of the Act, the Department intends to initiate the next five-year review of these orders not later than January 2005.

Dated: February 22, 2000.
Robert S. LaRussa,
Assistant Secretary for Import Administration.

[FR Doc. 00-4620 Filed 2-25-00; 8:45 am]

BILLING CODE 3510-DS-P